DEPARTMENT OF STATE

[Delegation of Authority No. 548]

Delegation of Authority; Overseas Real Property Management

By virtue of the authority of the Secretary of State pursuant to the laws of the United States, and as delegated by Department of State Delegation of Authority No. 514, I hereby delegate to the Director of Overseas Buildings Operations, to the extent authorized by law, all functions and authorities for overseas real property management as described in the Foreign Service Buildings Act, 1926, as amended (22 U.S.C. ch. 8).

The functions delegated herein may be re-delegated, to the extent authorized by law. This delegation of authority does not revoke, supersede, or affect any other delegation of authority. Any authority covered by this delegation may also be exercised by the Secretary, the Deputy Secretary, the Deputy Secretary for Management and Resources, and the Under Secretary for Management.

This document will be published in the Federal Register.

Dated: December 15, 2023.
John R. Bass,
Under Secretary for Management, Department of State.

[FR Doc. 2023-28298 Filed 12-22-23; 8:45 am]

BILLING CODE 4710-10-P